DEPARTMENT OF AGRICULTURE

Grain Inspection, Packers and Stockyards Administration

Opportunity for Designation in the Muncie, IN; Fremont, NE; Maryland; and West Lafayette, IN Areas; Request for Comments on the Official Agencies Servicing These Areas

AGENCY: Grain Inspection, Packers and Stockyards Administration, USDA.

ACTION: Notice.

SUMMARY: The designations of the official agencies listed below will end on June 30, 2010. We are asking persons or governmental agencies interested in providing official services in the areas presently served by these agencies to submit an application for designation. In addition, we are asking for comments on the quality of services provided by the following designated agencies: East Indiana Grain Inspection, Inc. (East Indiana); Fremont Grain Inspection Department, Inc. (Fremont); Maryland Department of Agriculture (Maryland); and Titus Grain Inspection, Inc. (Titus).

DATES: Applications and comments must be received on or before January 4, 2010.

ADDRESSES: Submit applications and comments concerning this notice using any of the following methods:

• Internet: Apply using FGISonline (https://fgis.gipsa.usda.gov/default_home_FGIS.aspx) by clicking on the Delegations/Designations and Export Registrations (DDR) link. You will need to obtain an FGISonline customer number and USDA eAuthentication username and password prior to applying. Submit comments at http://www.regulations.gov. Instructions for submitting and reading comments are detailed on the site.

• Hand Delivery/Courier Address: William A. Ashley, Acting Review Branch Chief, Compliance Division, GIPSA, USDA, Room 1647-S, 1400 Independence Avenue, SW., Washington, DC 20250.

• Mail: William A. Ashley, Acting Review Branch Chief, Compliance Division, GIPSA, USDA, STOP 3604, 1400 Independence Avenue, SW., Washington, DC 20250-3604.

• Fax: William A. Ashley, 202-690-2755.

• E-mail: William.A.Ashley@usda.gov.

Read Applications and Comments: All applications and comments will be available for public inspection at the office above during regular business hours (7 CFR 1.27(c)).

FOR FURTHER INFORMATION CONTACT: William A. Ashley, 202-720-8262 or William.A.Ashley@usda.gov.

SUPPLEMENTARY INFORMATION: Section 7(f)(1) of the United States Grain Standards Act (USGSA) (7 U.S.C. 71-87k) authorizes GIPSA's Administrator to designate a qualified applicant to provide official services in a specified area after determining that the applicant is better able than any other applicant to provide such official services. Under section 7(g)(1) of the USGSA, designations of official agencies are effective for 3 years unless terminated by the Secretary, but may be renewed according to the criteria and procedures prescribed in section 7(f) of the Act.

Areas Open for Designation

East Indiana

Pursuant to Section 7(f)(2) of the Act, the following geographic areas in the States of Indiana and Ohio are assigned to this official agency:

• Blackford, Delaware, Fayette, Grant (east of State Route 5 and north of State Route 18), Henry, Jay, Madison (north of State Route 132 and east of State Route 13), Randolph, Rush, Union, and Wayne Counties in Indiana.

• Darke County, Ohio.

Fremont

Pursuant to Section 7(f)(2) of the Act, the following geographic areas in the States of Iowa and Nebraska are assigned to this official agency:

• Carroll (west of U.S. Route 71), Clay (west of U.S. Route 71), Crawford, Dickinson (west of U.S. Route 71), Harrison (east of State Route 183), O'Brien (north of County Road B24 and east of U.S. Route 59), Osceola (east of U.S. Route 59), and Shelby Counties in Iowa.

• Burt, Butler, Colfax, Cuming, Dodge, Madison (east of U.S. Route 81), Pierce (east of U.S. Route 81 and South of U.S. Route 20), Platte, Polk, Saunders (west of U.S. Route 77), Stanton, Washington (north of State Route 91), and Wayne Counties in Nebraska.

Fremont also services two elevators within Omaha Grain Inspection Service, Inc.'s area: Farmers Union Cooperative Association and Krumel Grain and Storage, both located in Wahoo, Saunders County, Nebraska.

Fremont's assigned geographic areas do not include the following grain elevators:

• Huskers Cooperative Grain Company located in Columbus, Platte County, Nebraska (serviced by Hastings Grain Inspection, Inc.).

• United Farmers Cooperative located in Rising City, Butler County and two elevators in Shelby, Polk County, Nebraska (serviced by Omaha Grain Inspection Service, Inc.).

Maryland

Pursuant to Section 7(f)(2) of the Act, the entire State of Maryland, except those export port locations within the State, is assigned to this official agency.

Titus

Pursuant to Section 7(f)(2) of the Act, the following geographic area within the State of Indiana is assigned to this official agency:

• Benton, Carroll (north of State Route 25), Fountain (east of U.S. Route 41), Jasper (south of U.S. Route 24), Newton (east of State Route 55 and south of U.S. Route 24), Pulaski, Tippecanoe, Warren (east of U.S. Route 41), and White Counties.

Titus also services the following grain elevators located within Champaign-Danville Grain Inspection Department, Inc. and Frankfort Grain Inspection, Inc.'s service areas:

• Boswell Chase Grain, Inc., Boswell, Benton County; Archer Daniels Midland Company, Dunn, Benton County; and Archer Daniels Midland Company, Raub, Benton County (Champaign-Danville Grain Inspection Department, Inc.'s, area).

• The Andersons, Delphi, Carroll County; Frick Services, Inc., Leiters Ford, Fulton County; and Cargill, Inc., Linden, Montgomery County (Frankfort Grain Inspection, Inc.).

Opportunity for Designation

Interested persons or governmental agencies may apply for designation to provide official services in the geographic areas specified above under the provisions of section 7(f) of the USGSA and 7 CFR 800.196(d). Designation in the specified geographic areas is for the period beginning July 1, 2010, and ending June 30, 2013. To apply for designation or for more information, contact William A. Ashley at the address listed above or visit GIPSA's Web site at http://www.gipsa.usda.gov.

Request for Comments

We are publishing this notice to provide interested persons the opportunity to comment on the quality of services provided by the East Indiana, Fremont, Maryland, and Titus official agencies. In the designation process, we are particularly interested in receiving comments citing reasons and pertinent data supporting or objecting to the designation of the applicants. Submit all comments to William A. Ashley at the above address or at http://www.regulations.gov.

We consider applications, comments, and other available information when determining which applicant will be designated.

Authority: 7 U.S.C. 71-87k.

J. Dudley Butler,
Administrator, Grain Inspection, Packers and Stockyards Administration.

[FR Doc. E9-29349 Filed 12-8-09; 8:45 am]

BILLING CODE 3410-KD-P